DEPARTMENT OF COMMERCE

Foreign-Trade Zones Board

Foreign-Trade Zone 207—Richmond, VA Site Renumbering Notice

Foreign-Trade Zone 207 was approved by the Foreign-Trade Zones Board on March 31, 1995 (Board Order 733) and expanded on September 9, 2005 (Board Order 1413).

FTZ 207 currently consists of 2 “sites” totaling 2,276 acres in the Richmond area. The current update does not alter the physical boundaries that have previously been approved, but instead involves an administrative renumbering that separates certain non-contiguous sites for record-keeping purposes.

Under this revision, the site list for FTZ 207 will be as follows: Site 1 (2044 acres)—within the Richmond International Airport Complex; Site 2 (221 acres)—SouthPoint Business Park, 8100 Quality Drive, Prince George; and, Site 3 (11 acres)—Lewiston Industrial Park, 11293 Central Drive, Ashland.

For further information, contact Maureen Hinman at maureen.hinman@trade.gov or (202) 482-0627.

Dated: December 1, 2010.
Andrew McGilvray,
Executive Secretary.

[FR Doc. 2010-31098 Filed 12-9-10; 8:45 am]

BILLING CODE P